DEPARTMENT OF HOUSING AND URBAN DEVELOPMENT

[Docket No. FR-3482-N-09]

Requirements for Notification, Evaluation and Reduction of Lead-Based Paint Hazards in Federally Owned Residential Property and Housing Receiving Federal Assistance; Notice of Transition Assistance

AGENCY: Office of the Secretary, HUD.

ACTION: Notice of transition assistance.

SUMMARY: This notice describes the transition assistance that will be provided in connection with implementation of HUD's new requirements for notification, evaluation and reduction of lead-based paint hazards in federally owned residential property and housing receiving federal assistance (“Lead Safe Housing Regulation”). The Lead Safe Housing Regulation was published in the Federal Register on September 15, 1999, and becomes effective on September 15, 2000. To make certain that adequate service providers exist throughout the country to carry out lead-based paint hazard evaluation and reduction activities safely and effectively, and to target available resources to housing which places children most at risk, HUD has developed a transition assistance policy with three components.

First, HUD is authorizing a six-month transition period for program participants in jurisdictions which notify the Department by November 15, 2000, that they lack the capacity to implement one or more provisions of the Lead Safe Housing Regulation. Second, post-1960 properties occupied by children under six receiving only tenant-based rental assistance will be provided a twelve month transition period. Third, properties receiving federal rehabilitation assistance greater than $25,000 that are occupied by the elderly, where no child under six resides or is expected to reside, will be provided a twelve month transition period. No submission by a jurisdiction is required in order for program participants to take advantage of the second and third transition assistance components. All three components are discussed in more detail in the Supplementary Information section of this notice.

FOR FURTHER INFORMATION CONTACT: Lead Paint Compliance Assistance Center, Office of Healthy Homes and Lead Hazard Control, Department of Housing and Urban Development, 451 7th Street, SW, Room P-3206, Washington, DC 20410-0500, 1-866-HUD-1012 (1-866-483-1012) (this is a toll-free number). Persons with hearing or speech impairments may access this number via TTY by calling the toll-free Federal Information Relay Service at 1-800-877-8339.

SUPPLEMENTARY INFORMATION:

Background

Congress mandated the reduction of lead-based paint hazards in federally owned residential property and housing receiving federal assistance in the Residential Lead-Based Paint Hazard Reduction Act of 1992 (Title X of the Housing and Community Development Act of 1992) (Pub. L. 101-550; 106 Stat. 3897; 42 U.S.C. 4851 et seq.), which amended the Lead-Based Paint Poisoning Prevention Act (Pub. L. 91-695; 84 Stat. 2078; 42 U.S.C. 4801 et seq.). HUD published the Lead Safe Housing Regulation implementing Sections 1012 and 1013 of Title X in the Federal Register at 64 FR 50140 on September 15, 1999. This regulation becomes effective on September 15, 2000.

The Lead Safe Housing Regulation applies advances in the scientific understanding of childhood lead poisoning in the rehabilitation, treatment and maintenance of federally owned residential property and housing receiving federal assistance under a wide array of programs. The regulation also increases the quantity of testing, home maintenance, repair or rehabilitation work that must be performed in a lead-safe manner. In most areas of the country, the Department believes there is an adequate supply of trained contractors and licensed (certified) personnel to do the work required. However, in certain areas, the market for the services required under the regulation may not yet have reached the point where the requisite expertise is reasonably available for all programs and all requirements of the regulation.

Recognizing that gaps in capacity may exist, the Department believes that to protect children from lead poisoning in federally owned residential property and housing receiving federal assistance, the Lead Safe Housing Regulation must become effective as scheduled on September 15, 2000. Under this notice, the Department is providing program participants with a short transition period during which the geographic areas lacking capacity to comply with the Lead Safe Housing Regulation can build that capacity and resources can be focused on the housing stock with the greatest need. During this transition period, program participants in jurisdictions qualifying for the transition assistance will not be expected to comply with the relevant requirements of the Lead Safe Housing Regulation for certain identified programs. Working in partnership with organizations of housing providers and childhood health advocates, HUD will provide funds for nationwide training of clearance technicians, maintenance workers, rehabilitation workers, program staff and others. HUD will also create a Lead Paint Compliance Assistance Center to respond to requests for training assistance from jurisdictions which have inadequate capacity. The Department will provide funds to defray the costs of testing for lead-based paint and lead-based paint hazards, including clearance testing and risk assessments in the housing choice voucher program, clearance testing for properties receiving federal rehabilitation assistance and inspections and risk assessments for HUD's project-based programs. HUD is issuing program specific administrative notices to all program participants describing the sources of funding available for lead-based paint inspections and other testing, and related training.

Transition Assistance

Component 1—Assistance for Jurisdictions With Inadequate Capacity

For program participants in a particular jurisdiction to qualify for transition assistance based on inadequate capacity to carry out specific requirements of the Lead Safety Regulation, the chief elected official of the jurisdiction, or a senior official designated to act on his or her behalf (such as the official who signs the Annual Consolidated Action Plan submitted to HUD for the jurisdiction), must submit a Statement of Inadequate Capacity to HUD. A jurisdiction is defined for purposes of this notice as a CDBG Entitlement Grantee or for non-entitlement areas, the State CDBG Grantee or Indian Tribe. If the jurisdiction is the State, the statement must be signed and submitted by the agency head who signs the State Annual Consolidated Action Plan submitted to HUD and by the agency head responsible for the EPA-authorized lead-based paint certification program (if the State has an EPA-authorized lead-based paint certification program). If the jurisdiction is an Indian Tribe, the statement must be signed and submitted by the chief official of the Indian Tribe and by the individual responsible for the EPA-authorized lead-based paint certification program (if the Indian Tribe has an EPA-authorized lead-based paint certification program). The statement submitted by a State may cover all or part of the CDBG non-entitlement area of the State. The Statement of Inadequate Capacity should be circulated to and reviewed by local officials with responsibility for housing and public or environmental health in the State or locality.

The Statement of Inadequate Capacity must be submitted to: David E. Jacobs, Deputy Director, Office of Healthy Homes and Lead Hazard Control, U.S. Department of Housing and Urban Development, Room P-3202, 451 7th Street, SW, Washington, DC 20410-0500.

Specifically, the jurisdiction must indicate in the Statement of Inadequate Capacity that trained, licensed (certified) or accredited personnel or firms are either not available in sufficient numbers or are not available at a reasonable cost to make it practicable to comply with the Lead Safe Housing Regulation between September 15, 2000, and March 15, 2001. The statement must indicate the specific requirements, as well as the particular programs or types of assistance covered by the Lead Safety regulation for which capacity to comply does not yet exist. If the jurisdiction's claim of inadequate capacity is based on unreasonable cost, the statement must be documented by an analysis of actual bids. A sample Statement of Inadequate Capacity which HUD recommends jurisdictions use will be available on the HUD lead website at www.hud.gov/lea.

This Statement of Inadequate Capacity from a jurisdiction must be received by HUD no later than November 15, 2000. At the same time the statement is submitted to HUD, a copy of this statement must also be submitted to the State agency responsible for the lead-based paint certification program or to the regional EPA office if EPA is operating the lead-based paint certification program directly.

The jurisdiction is required to submit a Transition Implementation Plan with its Statement of Inadequate Capacity no later than December 15, 2000, explaining how the jurisdiction will take the necessary steps to ensure that an adequate supply of personnel or contractors will be available by March 15, 2001. Failure to submit the plan by December 15, 2000, will result in the rescission of the transition assistance.

The plan must include the following: (1) An assessment of actual existing capacity and the additional number and type of personnel that need to be trained and/or certified; (2) how training will be obtained; (3) how assisted housing with the greatest risks and greatest opportunity to control lead-based paint hazards will be prioritized using existing personnel or contractors; (4) how coordination with the State agency responsible for certification of lead hazard control personnel will be achieved; and (5) a schedule of activities that will enable the jurisdiction to obtain compliance as rapidly as possible, but no later than March 15, 2001. Jurisdictions must agree to make the Transition Implementation Plan publicly available. Transition Implementation Plan Guidance will be available on the HUD lead website at www.hud.gov/lea.

If the Statement of Inadequate Capacity from a jurisdiction meets all of the requirements set out in this notice, the Department will conclude that program participants in the jurisdiction lack the capacity to undertake safely and responsibly the evaluation and reduction of lead-based paint and lead-based paint hazards under the Lead Safe Housing Regulation and that transition assistance is needed to build capacity. The Department will publish in the Federal Register and make available on the HUD lead website at www.hud.gov/lea a list of the jurisdictions that have applied for transition assistance. HUD will conduct periodic audits of these Statements of Inadequate Capacity and may rescind transition assistance based on a false statement of inadequate capacity.

Jurisdictions that lack capacity will not be required to comply with the affected requirements of the Lead Safe Housing Regulation during a transition period beginning on September 15, 2000 and ending on March 15, 2001. During this transition period, program participants will continue to comply with HUD's lead-based paint regulations that were effective before September 15, 2000. If there remains a lack of capacity of trained or licensed (certified) professionals to conduct activities under the Lead Safe Housing Regulation at the end of the transition period, the jurisdiction must provide for HUD approval supplemental documentation in the form of an updated Transition Implementation Plan to justify an extension of the transition period consistent with their Annual Consolidated Action Plan schedule.

Component 2—Phase In Period for Post-1960 Properties Receiving Tenant-Based Assistance.

HUD will provide a one year transition period—until September 15, 2001—for all properties built after 1960 receiving only tenant-based assistance that are occupied by a child under six. During this transition period, program participants will continue to comply with HUD's lead-based paint regulations that were effective for this program before September 15, 2000. To receive this transition assistance, no submission by a jurisdiction is required.

Component 3—Phase In Period for Elderly-Occupied Properties Receiving Federal Rehabilitation Assistance Greater Than $25,000.

HUD will provide a one year transition period—until September 15, 2001—for all properties receiving federal rehabilitation assistance greater than $25,000 that are occupied by the elderly, where no child resides or is expected to reside. During the transition period, program participants will comply with the requirements in the Lead Safe Housing Regulation for federal rehabilitation assistance between $5,000 and $25,000. To receive this transition assistance, no submission by a jurisdiction is required.

Dated: September 5, 2000.
Andrew Cuomo,
Secretary.

[FR Doc. 00-23188 Filed 9-8-00; 8:45 am]

BILLING CODE 4210-32-P